DEPARTMENT OF HEALTH AND HUMAN SERVICES

Meeting of the Chronic Fatigue Syndrome Advisory Committee

AGENCY: Office of the Assistant Secretary for Health, Department of Health and Human Services, Office of the Secretary.

ACTION: Notice.

SUMMARY: As stipulated by the Federal Advisory Committee Act, the U.S. Department of Health and Human Services (DHHS) is hereby giving notice that a meeting of the Chronic Fatigue Syndrome Advisory Committee (CFSAC) will take place via webinar. This webinar meeting will be open to the public. Registration will not be required for public participants. Public comment has been scheduled.

DATES: The one-day webinar meeting will be held on Tuesday, March 11, 2014, from 12:00 p.m. until 5:00 p.m. (ET)

ADDRESSES: The meeting will be conducted by webinar.

FOR FURTHER INFORMATION CONTACT: Nancy C. Lee, M.D., Designated Federal Officer, Chronic Fatigue Syndrome Advisory Committee, Department of Health and Human Services, Office on Women's Health, 200 Independence Avenue SW., Room 712E, Washington, DC 20201. Phone: 202-690-7650; Fax: 202-401-4005. cfsac@hhs.gov.

SUPPLEMENTARY INFORMATION: The CFSAC is authorized under 42 U.S.C. 217a, Section 222 of the Public Health Service Act, as amended. The purpose of the CFSAC is to provide advice and recommendations to the Secretary of Health and Human Services, through the Assistant Secretary for Health, on issues related to myalgic encephalomyelitis/chronic fatigue syndrome (ME/CFS). The issues can include factors affecting access and care for persons with ME/CFS; the science and definition of ME/CFS; and broader public health, clinical, research and educational issues related to ME/CFS.

The agenda for this meeting and instructions to access the webinar will be posted on the CFSAC Web site www.hhs.gov/advocomcfsac. The webinar will use Adobe Acrobat Connect Pro Meeting. Please test your computer prior to participation at http://admin.adobeconnect.com/common/help/en/support/meeting_test.htm. Registration will not be required for this webinar. Oral public comment has already been scheduled. Because the first day of the December 10, 2013 webinar was cancelled due to weather, public comment that was scheduled for that day will be heard at this webinar.

Dated: February 7, 2014.
Nancy C. Lee,
Designated Federal Officer, Chronic Fatigue Syndrome Advisory Committee, U.S. Department of Health and Human Services.

[FR Doc. 2014-03125 Filed 2-12-14; 8:45 am]

BILLING CODE 4150-42-P